ENVIRONMENTAL PROTECTION AGENCY

[FRL-11697-01-OW]

Notice of Public Listening Session of the Environmental Financial Advisory Board (EFAB) Water Affordability Workgroup

AGENCY: Environmental Protection Agency (EPA).

ACTION: Notice of public listening session.

SUMMARY: The Environmental Protection Agency (EPA) announces a public listening session via a webcast of the Environmental Financial Advisory Board (EFAB) Water Affordability Workgroup. The listening session will be held in real-time via webcast and public comments may be provided in writing in advance. Please see SUPPLEMENTARY INFORMATION for further details. The purpose of the listening session will be for the EFAB to solicit public comment on research, data, and case examples that demonstrate approaches to reduce the capital intensity of meeting communities' water and wastewater service needs. These could include technological innovations that reduce the required scale of capital projects, innovative procurement models that reduce overall capital costs, or policy innovations that enable communities to meet regulatory requirements more efficiently. The listening session will be conducted fully virtual via webcast.

DATES: The listening session will be held on February 20, 2024, from 1 p.m. to 3 p.m. eastern.

ADDRESSES:

Webcast: Information to access the webcast will be provided upon registration in advance of the listening session.

FOR FURTHER INFORMATION CONTACT: Any member of the public who wants information about the listening session may contact Tara Johnson via telephone/voicemail at (202) 564-6186 or email to efab@epa.gov. General information concerning the EFAB is available at www.epa.gov/waterfinancecenter/efab.

SUPPLEMENTARY INFORMATION:

Background: The EFAB is an EPA advisory committee chartered under the Federal Advisory Committee Act (FACA), 5 U.S.C. app. 2, to provide advice and recommendations to EPA on innovative approaches to funding environmental programs, projects, and activities. Administrative support for the EFAB is provided by the Water Infrastructure and Resiliency Finance Center within EPA's Office of Water. Pursuant to FACA and EPA policy, notice is hereby given that the EFAB will hold a public listening session via a webcast to solicit public comment on research, data, and case examples that demonstrate approaches to reduce the capital intensity of meeting communities' water and wastewater service needs. These could include technological innovations that reduce the required scale of capital projects, innovative procurement models that reduce overall capital costs, or policy innovations that enable communities to meet regulatory requirements more efficiently.

Registration for the Listening Session: To register for the listening session, please visit www.epa.gov/waterfinancecenter/efab#meeting. Interested persons who wish to attend the listening session must register by February 18, 2024, to attend via webcast. Pre-registration is strongly encouraged. In the event the listening session cannot be held, an announcement will be made on the EFAB website at www.epa.gov/waterfinancecenter/efab and all registered attendees will be notified.

Availability of Listening Session Materials: Listening session materials, including the agenda and briefing materials, will be available on EPA's website at www.epa.gov/waterfinancecenter/efab.

Procedures for Providing Public Input: Public comment for consideration by EPA's Federal advisory committees has a different purpose from public comment provided to EPA program offices. Therefore, the process for submitting comments to a Federal advisory committee is different from the process used to submit comments to an EPA program office. Federal advisory committees provide independent advice to EPA. Members of the public may submit comments on matters being considered by the EFAB for consideration as the Board develops its advice and recommendations to EPA.

Oral Statements: In general, individuals or groups requesting an oral presentation at a public listening session will be limited to three minutes each. Persons interested in providing oral statements at the February 2024 listening session should register in advance and provide notification, as noted in the registration confirmation, by February 13, 2024, to be placed on the list of registered speakers. Those providing oral statements may also submit supplementary written statements per the instructions below.

Written Statements: Written statements should be received by February 13, 2024, so that the information can be made available to the EFAB for its consideration prior to the listening session. Written statements should be sent via email to efab@epa.gov. Members of the public should be aware that their personal contact information, if included in any written comments, may be posted to the EFAB website. Copyrighted material will not be posted without explicit permission of the copyright holder.

Accessibility: For information on access or services for individuals with disabilities or to request accommodations for a disability, please register for the listening session and list any special requirements or accommodations needed on the registration form at least 10 business days prior to the listening session to allow as much time as possible to process your request.

Andrew D. Sawyers,
Director, Office of Wastewater Management, Office of Water.

[FR Doc. 2024-02089 Filed 2-1-24; 8:45 am]

BILLING CODE 6560-50-P